DEPARTMENT OF ENERGY

Federal Energy Regulatory Commission

Additional Notice of Electric Quarterly Report Users Group Meeting

| Docket Nos.
Electric Quarterly Report User Group Meeting | AD19-9-000
Filing Requirements for Electric Utility Service Agreements | RM01-8-000
Electricity Market Transparency Provisions of Section 220 of the Federal Power Act | RM10-12-000
Revisions to Electric Quarterly Report Filing Process | RM12-3-000
Electric Quarterly Reports | ER02-2001-000

The Federal Energy Regulatory Commission (Commission) hereby notifies interested persons that a notice was issued on December 4, 2018, in Docket No. AD19-9-000, that Commission staff will hold an Electric Quarterly Report (EQR) Users Group meeting on February 14, 2019.¹ On January 11, 2019, a supplemental notice for the EQR Users Group meeting was issued, in Docket No. AD19-9-000, which contained the agenda for discussion for the meeting.² Please refer to these notices for information about the upcoming EQR User Group meeting. Commission staff reminds interested persons that issuances related to EQR Users Group meetings will not be assigned to Docket Nos. RM01-8-000, RM10-12-000, RM12-3-000, and ER02-2001-000.³ The Commission has established a contact list to inform market participants of upcoming EQR related events which is located here: https://www.ferc.gov/docs-filing/eqr/join-contact-list-form.asp. For more information about the EQR Users Group meeting, please contact Jeff Sanders of the Commission's Office of Enforcement at (202) 502-6455, or send an email to EQRUsersGroup@ferc.gov.

¹ https://www.ferc.gov/CalendarFiles/20181206142932-eqr-notice.pdf.

² https://www.ferc.gov/CalendarFiles/20190115115938-supplemental-notice-2-14-19.pdf.

³ See Notice of Electric Quarterly Report User Group Meeting (issued on October 17, 2017); Notice of Electric Quarterly Report User Group Meeting (issued on November 21, 2017).

Dated: January 23, 2019.
Kimberly D. Bose,
Secretary.

[FR Doc. 2019-00513 Filed 1-30-19; 8:45 am]

BILLING CODE 6717-01-P